DEPARTMENT OF DEFENSE

Office of the Secretary

[Docket ID: DOD-2011-OS-0056]

Privacy Act of 1974; System of Records

AGENCY: Office of the Secretary, DoD.

ACTION: Notice to Add a System of Records.

SUMMARY: The Office of the Secretary of Defense proposes to add a system of records to its inventory of record systems subject to the Privacy Act of 1974 (5 U.S.C. 552a), as amended.

DATES: This proposed action would be effective without further notice on June 17, 2011 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (703) 588-6830.

SUPPLEMENTARY INFORMATION: The Office of the Secretary of Defense notices for systems of records subject to the Privacy Act of 1974 (5 U.S.C. 552a), as amended, have been published in the Federal Register and are available from the FOR FURTHER INFORMATION CONTACT address.

The proposed system report, as required by 5 U.S.C. 552a(r) of the Privacy Act of 1974, as amended, was submitted on May 11, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 13, 2011.
Aaron Siegel,
Alternate OSD Federal Register Liaison Officer, Department of Defense.

DoDEA 28

System name:

Department of Defense Education Activity Summer Workshop Application.

System location:

Department of Defense Education Activity, 4040 North Fairfax Drive, Arlington, VA 22203-1634.

Categories of individuals covered by the system:

Department of Defense Education Activity (DoDEA) teachers, principals, assistant principals, instructional systems specialists, and area and district superintendents.

Categories of records in the system:

Records consist of first name, last name, Social Security Number (SSN), renewal transportation agreement (is a yes or no answer on application whether employee will be on renewal transportation TDY orders to determine what orders need to be issued), name of area, name of district, name of school or organization, identification numbers assigned to each school and office facility, grade level, subjects taught, years with DoDEA, contact personal e-mail address, contact person, and contact phone number.

Authority for maintenance of the system:

10 U.S.C. 2164, Department of Defense Domestic Dependent Elementary and Secondary Schools; 20 U.S.C. 921-932, Overseas Defense Dependents Education; DoD Directive 1342.20, Department of Defense Education Activity; and E.O. 9397(SSN), as amended.

Purpose(s):

This online tool helps the staff members at all four levels (school, district, area, and headquarters) apply for educational workshops and allows the approving authorities to review accepted applications.

The Summer Workshop Application serves as a system to track and account for course application, approval, and registration, summer/recess appointment pay, and is used for the issuance of temporary duty travel orders.

Routine uses of records maintained in the system, including categories of users and the purposes of such uses:

In addition to those disclosure generally permitted under 5 U.S.C. 552a(b) of the Privacy Act of 1974, these records may specifically be disclosed outside the DoD as routine use pursuant to 5 U.S.C. 55a(b)(3) as follows:

The DoD `Blanket Routine Uses' set forth at the beginning of the Office of the Secretary of Defense (OSD) compilation of systems of records notices also apply to this system.

Storage:

Electronic storage media.

Retrievability:

Files are retrieved by first name, and/or last name and identification numbers assigned to each school and office facility in DoDEA.

Safeguards:

Records are maintained in a secure facility. Physical entry is restricted by the use of locks and is accessible only to authorized personnel with appropriate badges. Access to records is limited to person(s) responsible for servicing the record in performance of their official duties and who are properly screened and cleared for need-to-know. Common Access Card and pin are required to access computerized data.

Retention and disposal:

Records are maintained for five years (5) or five (5) years after completion of specified program (whichever is sooner) and then destroyed.

System manager(s) and address:

Chief, Professional Development Branch, Education Division, Department of Defense Education Activity, 4040 North Fairfax Drive, Arlington, Virginia 22203-1635.

Notification procedure:

Individuals seeking to determine whether information about themselves is contained in this system should address written inquires to the Privacy Act Officer, Department of Defense Education Activity, 4040 North Fairfax Drive, Arlington, Virginia 22203-1635.

Request should contain the educator's full official name and signed in ink. Former employees must also include dates and places of employment.

Record access procedures:

Individuals seeking access to information about themselves contained in this system of records should address written inquires to the DoDEA Freedom of Information Act Requester Service Center, 4040 North Fairfax Drive, Arlington, VA 22302-1635.

Requests should contain the applicant's full name and signed in ink. Former employees must also include dates and places of employment.

Contesting record procedures:

The OSD rules for accessing records, for contesting contents, and appealing initial agency determinations are contained in OSD Administrative Instruction 81; 32 CFR part 311; or may be obtained from the system manager.

Record source categories:

Information is provided by the individual.

Exemptions claimed for the system:

None.

[FR Doc. 2011-12228 Filed 5-17-11; 8:45 am]

BILLING CODE 5001-06-P